DEPARTMENT OF COMMERCE

National Telecommunications and Information Administration

Proposed Information Collection; Comment Request; Survey of Minority Commercial Broadcast Owners

ACTION: Notice.

SUMMARY: The Department of Commerce (DOC), as part of its continuing effort to reduce paperwork and respondent burden, invites the general public and other Federal agencies to comment on the continuing and proposed information collection, as required by the Paperwork Reduction Act of 1995, Pub. L. 104-13 (44 U.S.C. 3506 (c)(2)(A)).

DATES: Written comments must be submitted on or before October 6, 2003.

ADDRESSES: Direct all written comments to Diana Hynek, Departmental Paperwork Clearance Officer, Department of Commerce, Room 6625, 14th and Constitution Avenue, NW., Washington, DC 20230, or via the Internet at dHynek@doc.gov.

FOR FURTHER INFORMATION CONTACT: Requests for additional information or copies of the information collection instrument(s) should be directed to Maureen Lewis, Director, Minority Telecommunications Development Program, NTIA, Department of Commerce, Room 4720, 14th and Constitution Avenue, NW., Washington, DC 20230, (202) 482-1892 or by e-mail at mlewis@ntia.doc.gov.

SUPPLEMENTARY INFORMATION:

I. Abstract

The Minority Telecommunications Development Program (MTDP), National Telecommunications and Information Administration has developed a survey instrument for its periodic minority commercial broadcast ownership report. The survey will be the principal method of systematically gathering information about the experiences of minority entrepreneurs entering the broadcast industry and/or expanding their operations.

II. Method of Collection

MTDP will conduct thirty-minute telephone surveys of station owners or senior management. MTDP will also make the surveys available to respondents on the NTIA website, so that station owners or managers may complete and submit the requested information electronically.

III. Data

OMB Number: 0660-0017.

Form Numbers: None.

Type of Review: Regular submission.

Affected Public: Business or other for-profit organizations.

Estimated Number of Respondents: 500.

Estimated Time Per Response: 30 minutes.

Estimated Total Annual Burden Hours: 250.

Estimated Total Annual Cost to the Public: $0.

IV. Request for Comments

The Department of Commerce invites comments on: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized and will be included in the request for OMB approval of this information collection; they also will become a matter of public record.

Dated: August 1, 2003.
Gwellnar Banks,
Management Analyst, Office of the Chief Information Officer.

[FR Doc. 03-20088 Filed 8-6-03; 8:45 am]

BILLING CODE 3510-60-P